DEPARTMENT OF ENERGY

Federal Energy Regulatory Commission

Combined Notice of Filings # 1

August 23, 2007.

Take notice that the Commission received the following electric corporate filings:

Docket Numbers: EC07-126-000.

Applicants: Grant Peaking Power Holdings, LLC; Colbath Peaking Power, LLC; Lincoln Peaking Power Holdings, LLC; DTE Energy Services, Inc.; TPF II LC, LLC; Lincoln Generating Facility, LLC; Crete Energy Venture, LLC.

Description: Grant Peaking Power Holdings, LLC et al submits a Joint Application for disposition of jurisdictional facilities and request for waivers and expedited consideration.

Filed Date: 08/16/2007.

Accession Number: 20070817-0054.

Comment Date: 5 p.m. Eastern Time on Thursday, September 06, 2007.

Take notice that the Commission received the following exempt wholesale generator filings:

Docket Numbers: EG07-77-000.

Applicants: Airtricity Champion Wind Farm, LLC.

Description: Airtricity Champion Wind Farm, LLC submits a Notice of Self-Certification of Exempt Wholesale Generator Status.

Filed Date: 08/21/2007.

Accession Number: 20070823-0027.

Comment Date: 5 p.m. Eastern Time on Tuesday, September 11, 2007.

Docket Numbers: EG07-78-000.

Applicants: Airtricity Roscoe Wind Farm, LLC.

Description: Airtricity Roscoe Wind Farm, LLC submits a Notice of Self-Certification of Exempt Wholesale Generator Status.

Filed Date: 08/21/2007.

Accesion Number: 20070823-0031.

Comment Date: 5 p.m. Eastern Time on Tuesday, September 11, 2007.

Take notice that the Commission received the following electric rate filings:

Docket Numbers: ER02-1437-003.

Applicants: Triton Power Michigan, LLC.

Description: Triton Power Michigan LLC Notice of Non-Material Change in Status.

Filed Date: 08/22/2007.

Accession Number: 20070822-5013.

Comment Date: 5 p.m. Eastern Time on Tuesday, September 4, 2007.

Docket Numbers: ER02-1785-011.

Applicants: Thermo Cogeneration Partnership, LP.

Description: Thermo Cogeneration Partnership, LP Notice of Non-Material Change in Status.

Filed Date: 08/22/2007.

Accession Number: 20070822-5014.

Comment Date: 5 p.m. Eastern Time on Tuesday, September 4, 2007.

Docket Numbers: ER02-2560-009.

Applicants: Louisville Gas & Electric Company.

Description: Refund Report of Louisville Gas/Kentucky Utilities in Response to July 20, 2007 Order.

Filed Date: 08/20/2007.

Accession Number: 20070820-5039.

Comment Date: 5 p.m. Eastern Time on Monday, September 10, 2007.

Docket Numbers: ER03-421-013.

Applicants: PPL Wallingford; PPL Wallingford Energy, LLC.

Description: PPL Wallingford Energy, LLC and PPL EnergyPlus, LLC submits a compliance filing.

Filed Date: 08/21/2007.

Accession Number: 20070822-0075.

Comment Date: 5 p.m. Eastern Time on Tuesday, September 11, 2007.

Docket Numbers: ER06-18-009.

Applicants: Midwest Independent Transmission System Operator, Inc.

Description: Midwest Independent Transmission System Operator, Inc submits proposed revisions to comply with directives set forth in FERC's 7/23/07 Order.

Filed Date: 08/22/2007.

Accession Number: 20070823-0030.

Comment Date: 5 p.m. Eastern Time on Wednesday, September 12, 2007.

Docket Numbers: ER07-577-004.

Applicants: Midwest Independent Transmission System Operator, Inc.

Description: Midwest Independent Transmission System Operator, Inc submits an Unexecuted Facilities Construction Agreement with Endeavor Power Partners, LLC in compliance with FERC's 7/19/07 Order.

Filed Date: 08/20/2007.

Accession Number: 20070821-0020.

Comment Date: 5 p.m. Eastern Time on Monday, September 10, 2007.

Docket Numbers: ER07-1051-001.

Applicants: Texzon Utilities, Ltd.

Description: Texzon Utilities, Ltd submits an amended notice of succession and an amended filing to the 6/14/07 filing.

Filed Date: 08/16/2007.

Accession Number: 20070821-0022.

Comment Date: 5 p.m. Eastern Time on Thursday, September 06, 2007.

Docket Numbers: ER07-1100-002.

Applicants: Entergy Services, Inc.

Description: Entergy Operating Companies' Substitute Second Revised Network Integration Transmission Service Agreement and Substitute Network Operating Agreement with City of North Little Rock, Arkansas.

Filed Date: 08/20/2007.

Accession Number: 20070822-0035.

Comment Date: 5 p.m. Eastern Time on Monday, September 10, 2007.

Docket Numbers: ER07-1255-001.

Applicants: Southwest Power Pool, Inc.

Description: Southwest Power Pool, Inc submits Exhibit I—corrected Substitute Original Sheet 1223 to FERC Electric Tariff, Fifth Revised Volume 1 related to energy imbalance market.

Filed Date: 08/16/2007.

Accession Number: 20070822-0074.

Comment Date: 5 p.m. Eastern Time on Thursday, September 06, 2007.

Docket Numbers: ER07-1286-000; ER07-1286-001.

Applicants: PJM Interconnection, LLC.

Description: PJM Interconnection, LLC submits revisions to Schedule 2 of their Open Access Transmission Tariff.

Filed Date: 08/16/2007.

Accession Number: 20070817-0043; 20070822-0042.

Comment Date: 5 p.m. Eastern Time on Thursday, September 06, 2007.

Docket Numbers: ER07-1292-000.

Applicants: California Independent System Operator Corporation.

Description: California Independent System Operator Corp provides notice re the revised transmission Access Charges effective 7/1/07 to implement the revised Transmission Revenue Requirement of San Diego Gas & Electric Co.

Filed Date: 08/17/2007.

Accession Number: 20070821-0019.

Comment Date: 5 p.m. Eastern Time on Friday, September 07, 2007.

Docket Numbers: ER07-1293-000.

Applicants: Upper Peninsula Power Company.

Description: Upper Peninsula Power Co submits unexecuted agreement with Escanaba Municipal Electric Utility for the sale of short-term capacity and energy under Electric Rate Schedule 59, effective 8/18/07.

Filed Date: 08/17/2007.

Accession Number: 20070821-0024.

Comment Date: 5 p.m. Eastern Time on Friday, September 07, 2007.

Docket Numbers: ER07-1294-000.

Applicants: PJM Interconnection, LLC.

Description: PJM Interconnection, LLC submits amendments to Schedule 12 of the Amended and Restated Operating Agreement.

Filed Date: 08/17/2007.

Accession Number: 20070821-0023.

Comment Date: 5 p.m. Eastern Time on Friday, September 07, 2007.

Docket Numbers: ER07-1295-000.

Applicants: Centennial Power, LLC.

Description: Centennial Power, LLC submits a notice of cancellation of their FERC Electric Tariff, Original Volume 1.

Filed Date: 08/20/2007.

Accession Number: 20070821-0021.

Comment Date: 5 p.m. Eastern Time on Monday, September 10, 2007.

Docket Numbers: ER07-1297-000.

Applicants: Chien Energy, LLC.

Description: Chien Energy, LLC submits a petition for acceptance of initial tariff, waivers and blanket authority re their FERC Electric Rate Schedule 1.

Filed Date: 08/21/2007.

Accession Number: 20070822-0034.

Comment Date: 5 p.m. Eastern Time on Tuesday, September 11, 2007.

Docket Numbers: ER07-1298-000.

Applicants: Wabash Valley Power Association, Inc.

Description: Wabash Valley Power Association, Inc submits the Wholesale Power Supply Contract with Boone REMC designated as Rate Schedule 33.

Filed Date: 08/22/2007.

Accession Number: 20070823-0018.

Comment Date: 5 p.m. Eastern Time on Wednesday, September 12, 2007.

Take notice that the Commission received the following open access transmission tariff filings:

Docket Numbers: OA07-3-001.

Applicants: Tampa Electric Company.

Description: Tampa Electric Company submits First Revised Sheet 81 et al. to FERC Electric Tariff, Third Revised Volume 4, to be effective 8/1/07.

Filed Date: 08/21/2007.

Accession Number: 20070823-0028.

Comment Date: 5 p.m. Eastern Time on Tuesday, September 11, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis Sr.,
Acting Deputy Secretary.

[FR Doc. E7-17302 Filed 8-30-07; 8:45 am]

BILLING CODE 6717-01-P